FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than October 16, 2024.

A. Federal Reserve Bank of Atlanta (Erien O. Terry, Assistant Vice President) 1000 Peachtree Street NE, Atlanta, Georgia 30309. Comments can also be sent electronically to Applications.Comments@atl.frb.org:

1. Anchor Bank Irrevocable Trust, Coral Gables, Florida, Guido E. Hinojosa Cardoso, as trustee, La Paz, Bolivia; to acquire voting shares of Anchor Bancorp, Inc., and thereby indirectly acquire voting shares of Anchor Bank, both of Palm Beach Gardens, Florida.

B. Federal Reserve Bank of Chicago (Colette A. Fried, Assistant Vice President) 230 South LaSalle Street, Chicago, Illinois 60690-1414. Comments can also be sent electronically to Comments.applications@chi.frb.org:

1. J. Thomas MacFarlane, Bloomfield, Michigan, as trustee of the K.I.S.S. Dynasty Trust No. 9 (dated December 28, 2023), Sioux Falls, South Dakota; to retain control of voting shares of Sterling Bancorp, Inc. (Bancorp), and thereby indirectly retain control of voting shares of Sterling Bank and Trust, FSB (Bank), both of Southfield, Michigan. In addition, J. Thomas MacFarlane, to become trustee of the Scott J. Seligman 1993 Long Term Irrevocable Dynasty Trust and the Scott J. Seligman 1993 Irrevocable Dynasty Trust, both of Sioux Falls, South Dakota, and acquire control of additional voting shares of Bancorp and thereby indirectly acquire control of voting shares of Bank.

C. Federal Reserve Bank of Kansas City (Jeffrey Imgarten, Assistant Vice President) 1 Memorial Drive, Kansas City, Missouri, 64198-0001. Comments can also be sent electronically to KCApplicationComments@kc.frb.org:

1. Clarkson Lauritzen, as Chairman of Lauritzen Corporation and Vice President of FirstLine Insurance Services, Inc.; as voting representative of the Bruce R. Lauritzen 2022 Grantor Retained Annuity Trust III-A, dated June 16, 2022, and the Bruce R. Lauritzen 2023 Grantor Retained Annuity Trust III-A, dated June 16, 2023; and as trustee the 2012 Dynasty Trust for the Benefit of Clarkson D. Lauritzen, three trusts each for the benefit of a minor child of Clarkson Lauritzen, and the previously approved Bruce R. Lauritzen Revocable Trust dtd 9/2/05; all of Omaha, Nebraska; to retain voting shares of First National of Nebraska, Inc. (FNNI), and thereby indirectly retain voting shares of First National Bank of Omaha (FNBO), both of Omaha, Nebraska.

In addition, the Bruce R. Lauritzen 2022 Grantor Retained Annuity Trust III-A, dated June 16, 2022, and the Bruce R. Lauritzen 2023 Grantor Retained Annuity Trust III-A, dated June 16, 2023, FNBO, trustee, Clarkson Lauritzen, voting representative; the 2012 Dynasty Trust for the Benefit of Clarkson D. Lauritzen, three trusts each for the benefit of a minor child of Clarkson Lauritzen, Clarkson Lauritzen, trustee; the Clarkson D. Lauritzen Dynasty Trust and the Emily Lauritzen Revocable Trust dtd 7/22/2008, Emily Lauritzen, trustee; the Bruce R. Lauritzen 2022 Grantor Retained Annuity Trust I-A, dated June 16, 2022, and the Bruce R. Lauritzen 2023 Grantor Retained Annuity Trust I-A, dated June 16, 2023, FNBO, trustee, Margaret Dodge, voting representative; the 2012 Dynasty Trust for the Benefit of Margaret Lauritzen Dodge, the 2019 John P. Dodge Irrevocable Trust, the 2019 Isabelle C. Dodge Irrevocable Trust, the 2019 Eleanor W. Dodge Irrevocable Trust, and the 2019 Laura C. Dodge Irrevocable Trust, Margaret Dodge, trustee; the Margaret Lauritzen Dodge Irrevocable Legacy Trust, Nathan Dodge, trustee, individually and through McKay Investments LLC; McKay Investments LLC, Margaret Lauritzen Dodge Irrevocable Legacy Trust, Nathan Dodge, trustee; the Bruce R. Lauritzen 2022 Grantor Retained Annuity Trust II-A, dated June 16, 2022, and the Bruce R. Lauritzen 2023 Grantor Retained Annuity Trust II-A, dated June 16, 2023, FNBO, trustee, Blair Gogel, voting representative; the 2012 Dynasty Trust for the Benefit of Blair Lauritzen Gogel, the 2019 Kimball A. Gogel Irrevocable Trust, and the 2019 Thomas M. Gogel Irrevocable Trust, Blair Gogel, trustee; the Emily Wahl Lauritzen Irrevocable Dynasty Trust, dated June 17, 2020, FNBO, trustee, Blair Gogel, investment committee member, individually and through KBL LLC; KBL LLC, Emily Wahl Lauritzen Irrevocable Dynasty Trust dtd 6/17/20 Class A Holder, FNBO, trustee, Blair Gogel, investment committee member; Lookout Mountain LLC, Blair Lauritzen Gogel Irrevocable Legacy Trust dtd 3/15/23, Matt Gogel, trustee; the Ann L. Pape Family Dynasty Trust dtd 12/23/16, FNBO, trustee, Matthew Pape and Brady Pape, Special Holdings Direction Advisors, and Pape Investments, LLC, the Brady Pape Gibson Irrevocable Dynasty Trust, dated 11/22/16, FNBO and Ryan R. Gibson, co-trustees, the Matthew M. Pape Irrevocable Dynasty Trust, dtd 11/11/15, FNBO and Kimberly S. Pape, co-trustees, all as interest holders of EDL Investment Co. LLC, a previously approved member of the Lauritzen Family Group; the Ann L. Pape Revocable Trust, Ann Lauritzen Pape, trustee, individually and through EDL Investment Co. LLC; the Ann L. Pape 2021 First National of Nebraska, Inc. Three-Year Progressive Payment GRAT Agreement, FNBO, trustee, Brady Gibson & Matthew Pape, Special Holding Direction Advisors, individually and through EDL Investment Co. LLC The Brady Pape Gibson 2022 Grantor Retained Annuity Trust and the Brady Pape Gibson 2020 Irrevocable Dynasty Trust, FNBO and Ryan Gibson, co-trustees; the Matthew M. Pape 2022 Grantor Retained Annuity Trust and the Matthew M. Pape 2020 Irrevocable Dynasty Trust, FNBO and Kimberly Pape, co-trustees; the Elizabeth Lauritzen Family Trust fbo Matthew Pape and the Elizabeth Lauritzen Family Trust fbo Brady Gibson, FNN Trust Company, Mitchel, South Dakota and Ann Lauritzen Pape, co-trustees; three trusts each for the benefit of a minor child of Matthew Pape, FNBO, trustee, and Matthew Pape, Special Holdings Direction Advisor; and three trusts each for the benefit of a minor child of Brady Gibson, FNBO, trustee, and Brady Gibson, Special Holdings Direction Advisor; all of the aforementioned individuals, trusts, and LLCs are of Omaha, Nebraska unless otherwise specifically noted; to become members of the Lauritzen Family Group, a group acting in concert, to retain voting shares of FNNI, and thereby indirectly retain voting shares of FNBO.

Finally, Blair Gogel, Mission Hills, Kansas, as Vice President of FirstLine Insurance Services; as voting representative of the Bruce R. Lauritzen 2022 Grantor Retained Annuity Trust II-A, dated June 16, 2022, and the Bruce R. Lauritzen 2023 Grantor Retained Annuity Trust II-A, dated June 16, 2023; as trustee of the 2012 Dynasty Trust for the Benefit of Blair Lauritzen Gogel, the 2019 Kimball A. Gogel Irrevocable Trust, and the 2019 Thomas M. Gogel Irrevocable Trust; and as investment committee member of the Emily Wahl Lauritzen Irrevocable Dynasty Trust, dated June 17, 2020, which controls KBL, LLC; trusts and LLC all of Omaha, Nebraska; to acquire voting shares of FNNI, and thereby indirectly acquire voting shares of FNBO.

2. Clarkson Lauritzen, as trustee of the Clarkson D. Lauritzen Revocable Trust, and the previously approved John R. Lauritzen Irrevocable Trust and Elizabeth D. Lauritzen Irrevocable Trust, all of Omaha, Nebraska; the Clarkson D. Lauritzen Revocable Trust, Clarkson Lauritzen, trustee; the Margaret L. Dodge Revocable Trust, Margaret Dodge, individually and as trustee, all of Omaha, Nebraska; the Bruce R. Lauritzen 2022 Grantor Retained Annuity Trust I-A, dated June 16, 2022 and the Bruce R. Lauritzen 2023 Grantor Retained Annuity Trust I-A, dated June 16, 2023, First National Bank of Omaha (FNBO), trustee, Margaret Dodge, voting representative, all of Omaha, Nebraska; the Bruce R. Lauritzen 2022 Grantor Retained Annuity Trust II-A, dated June 16, 2022 and the Bruce R. Lauritzen 2023 Grantor Retained Annuity Trust II-A, dated June 16, 2023, both of Omaha, Nebraska, FNBO, trustee, Blair Gogel, as voting representative, Mission Hills, Kansas; and the Blair Gogel Revocable Trust, Omaha, Nebraska, Blair Gogel, trustee; to become members of the Lauritzen Family Group, a group acting in concert; to retain voting shares of Lauritzen Investments, Incorporated (Investments), Omaha, Nebraska, and thereby indirectly retain voting shares of Farmers and Merchants State Bank, Bloomfield, Nebraska (F&M), Bloomfield, Nebraska.

In addition, the John R. Lauritzen 1972 Trust f/b/o Margaret L. Dodge & Family, First National Bank of Omaha (FNBO) and Margaret Dodge, co-trustees, all of Omaha, Nebraska; the John R. Lauritzen 1972 Trust f/b/o Blair L. Gogel & Family, FNBO, co-trustee, both of Omaha, Nebraska, and Blair Gogel, co-trustee, Mission Hills, Kansas; the Elizabeth D. Lauritzen 1972 Trust f/b/o Margaret L. Dodge & Family, FNBO and Margaret Dodge, co-trustees; the Elizabeth D. Lauritzen 1972 Trust f/b/o Blair L. Gogel & Family, FNBO and Blair Gogel, co-trustees; both trusts of Omaha, Nebraska; and Blair Gogel, individually; to become members of the Lauritzen Family Group; to acquire voting shares of Investments, and thereby indirectly acquire voting shares of F&M.

3. Clarkson Lauritzen, individually, as voting representative of the Bruce R. Lauritzen 2022 Grantor Retained Annuity Trust III-A, dated June 16, 2022 and the Bruce R. Lauritzen 2023 Grantor Retained Annuity Trust III-A, dated June 16, 2023, and as trustee of the Clarkson D. Lauritzen Revocable Trust, the Clarkson D. Lauritzen GST-Exempt Trust, and the previously approved John R. Lauritzen Irrevocable Trust and Elizabeth D. Lauritzen Irrevocable Trust, all of Omaha, Nebraska; the Margaret L. Dodge Revocable Trust and the Margaret L. Dodge GST Exempt Trust, Margaret Dodge, trustee, all of Omaha, Nebraska; the Blair L. Gogel Revocable Trust and the Blair L. Gogel GST-Exempt Trust, both of Omaha, Nebraska, Blair Gogel, trustee, Mission Hills, Kansas; and the Emily Wahl Lauritzen Irrevocable Dynasty Trust, dated June 17, 2020, Omaha, Nebraska, FNBO, trustee, Blair Gogel, investment committee member; to become members of the Lauritzen Family Group, a group acting in concert; to retain voting shares of Lauritzen Corporation, Omaha, Nebraska (Corporation), and thereby indirectly retain voting shares of First National of Nebraska, Inc. (FNNI), and its subsidiary, First National Bank of Omaha (FNBO), both of Omaha, Nebraska.

In addition, the John R. Lauritzen 1972 Trust f/b/o Clarkson D. Lauritzen & Family, First National Bank of Omaha (FNBO) and Clarkson Lauritzen, co-trustees, all of Omaha, Nebraska; the Elizabeth D. Lauritzen 1972 Trust f/b/o Clarkson D. Lauritzen & Family, FNBO and Clarkson Lauritzen, co-trustees; the John R. Lauritzen 1972 Trust f/b/o Margaret L. Dodge & Family and the Elizabeth D. Lauritzen 1972 Trust f/b/o Margaret L. Dodge & Family, FNBO and Margaret Dodge, co-trustees; the John R. Lauritzen 1972 Trust f/b/o Blair L. Gogel & Family and the Elizabeth D. Lauritzen 1972 Trust f/b/o Blair L. Gogel & Family, FNBO and Blair Gogel, co-trustees, trusts all of Omaha, Nebraska; Margaret Dodge, individually; and Blair Gogel, individually; to become members of the Lauritzen Family Group, to acquire voting shares of Corporation, and thereby indirectly acquire voting shares of FNNI and its subsidiary FNBO.

4. Clarkson Lauritzen, as trustee of the previously approved John R. Lauritzen Irrevocable Trust and the Elizabeth D. Lauritzen Irrevocable Trust, all of Omaha, Nebraska; to retain voting shares of Danes Holdings, Inc., Omaha, Nebraska (Danes), and thereby indirectly retain voting shares of Shelby County State Bank, Harlan, Iowa (SCB).

In addition, the John R. Lauritzen 1972 Trust f/b/o Clarkson D. Lauritzen & Family, First National Bank of Omaha (FNBO) and Clarkson Lauritzen, co-trustees; and the Elizabeth D. Lauritzen 1972 Trust f/b/o Clarkson D. Lauritzen & Family, FNBO and Clarkson Lauritzen, co-trustees, all of Omaha, Nebraska; to acquire voting shares of Danes, and thereby indirectly acquire voting shares of SCB.

5. Clarkson Lauritzen, as trustee of the previously approved John R. Lauritzen Irrevocable Trust and the Elizabeth D. Lauritzen Irrevocable Trust, all of Omaha, Nebraska; to retain voting shares of Red Oak Financial Corporation, Omaha, Nebraska (Red Oak), and thereby indirectly retain voting shares of Houghton State Bank, Red Oak, Iowa (HSB).

In addition, the John R. Lauritzen 1972 Trust f/b/o Clarkson D. Lauritzen & Family, First National Bank of Omaha (FNBO) and Clarkson Lauritzen, co-trustees; and the Elizabeth D. Lauritzen 1972 Trust f/b/o Clarkson D. Lauritzen & Family, FNBO and Clarkson Lauritzen, co-trustees, all of Omaha, Nebraska; to become members of the Lauritzen Family Group, a group acting in concert, to acquire voting shares of Red Oak, and thereby indirectly acquire voting shares of HSB.

6. Clarkson Lauritzen, as trustee of the previously approved John R. Lauritzen Irrevocable Trust and the Elizabeth D. Lauritzen Irrevocable Trust, all of Omaha, Nebraska; to retain voting shares of York Holdings, Inc., Omaha, Nebraska (YHI), and thereby indirectly retain voting shares of York State Bank, York, Nebraska (YSB).

In addition, the John R. Lauritzen 1972 Trust f/b/o Margaret L. Dodge and Family, First National Bank of Omaha (FNBO) and Margaret Dodge, co-trustees; and the Elizabeth D. Lauritzen 1972 Trust f/b/o Margaret L. Dodge and Family, FNBO and Margaret Dodge, co-trustees, all of Omaha, Nebraska; to become members of the Lauritzen Family Group, a group acting in concert, to acquire voting shares of YHI, and thereby indirectly acquire voting shares of YSB.

7. Clarkson Lauritzen, as trustee of the previously approved John R. Lauritzen Irrevocable Trust and the Elizabeth D. Lauritzen Irrevocable Trust, all of Omaha, Nebraska; to retain voting shares of Blair Holdings, Inc., Omaha, Nebraska (BHI), and thereby indirectly retain voting shares of Washington County Bank, Blair, Nebraska (WCB).

In addition, the John R. Lauritzen 1972 Trust f/b/o Margaret L. Dodge and Family, First National Bank of Omaha (FNBO) and Margaret Dodge, co-trustees; and the Elizabeth D. Lauritzen 1972 Trust f/b/o Margaret L. Dodge and Family, FNBO and Margaret Dodge, co-trustees, all of Omaha, Nebraska; to become members of the Lauritzen Family Group, a group acting in concert, to acquire voting shares of BHI, and thereby indirectly acquire voting shares of WCB.

Board of Governors of the Federal Reserve System.
Michele Taylor Fennell,
Associate Secretary of the Board.

[FR Doc. 2024-22512 Filed 9-30-24; 8:45 am]

BILLING CODE P